DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of five entities whose property and interests in property have been blocked pending investigation pursuant to the Foreign Narcotics Kingpin Designation Act (“Kingpin Act”) (21 U.S.C. 1901-1908, 8 U.S.C. 1182).

DATES: The blocking pending investigation by the Director of OFAC of the five entities identified in this notice pursuant to section 806(a)(2) of the Kingpin Act is effective on October 13, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

On October 13, 2010, the Director of OFAC blocked pending investigation five entities whose property and interests in property are blocked pursuant to section 806(a)(2) of the Foreign Narcotics Kingpin Designation Act.

The list of additional designees is as follows:

1. JR CONTROLADORA DE RESTAURANTES, S.A. DE C.V., Martin L. Guzman 259-3, Colonia Villa de Cortes, Delegacion Benito Juarez, Mexico City, Mexico; Folio Mercantil No. 325909 (Mexico); (ENTITY) [BPI-SDNTK]

2. TATES DESARROLLO, S.A. DE C.V., Mexico City, Mexico; Folio Mercantil No. 345497 (Mexico); (ENTITY) [BPI-SDNTK]

3. FLORBEL OPERADORA DE RESTAURANTES, S.A. DE C.V., Mexico City, Mexico; Folio Mercantil No. 310801 (Mexico); (ENTITY) [BPI-SDNTK]

4. LUZAAIR, S.A. DE C.V., Mexico City, Mexico; Folio Mercantil No. 354246 (Mexico); (ENTITY) [BPI-SDNTK]

5. LORENA DEL MAR, S.A. DE C.V., Mexico City, Mexico; Folio Mercantil No. 324168 (Mexico); (ENTITY) [BPI-SDNTK]

Dated: October 13, 2010.
Adam J. Szubin,
Director, Office of Foreign Assets Control.

[FR Doc. 2010-26330 Filed 10-19-10; 8:45 am]

BILLING CODE 4810-AL-P